NATIONAL CREDIT UNION ADMINISTRATION

Agency Sunshine Act Meeting

TIME AND DATE: 9 a.m., Thursday, November 17, 2011.

PLACE: Board Room, 7th Floor, Room 7047, 1775 Duke Street, Alexandria, VA 22314-3428.

STATUS: Open.

MATTERS TO BE CONSIDERED:

1. Final Rule—Section 701.20 of NCUA's Rules and Regulations, Remittance Transfers.

2. Final Rule—Part 750 of NCUA's Rules and Regulations, Golden Parachute and Indemnification Payments, Technical Corrections.

3. Proposed Rule—Parts 701, 741, and 742 of NCUA's Rules and Regulations, Loan Participations.

4. Request from Finance Center Federal Credit Union to Expand its Community Charter.

5. Insurance Fund Report and Premium/Assessment Ranges.

6. NCUA's 2012 Operating Budget.

7. NCUA's Overhead Transfer Rate.

8. NCUA's Operating Fee Scale.

FOR FURTHER INFORMATION CONTACT: Mary Rupp, Secretary of the Board, Telephone: (703) 518-6304.

Mary Rupp,
Board Secretary.

[FR Doc. 2011-29488 Filed 11-9-11; 4:15 pm]

BILLING CODE 7535-01-P